DEPARTMENT OF AGRICULTURE

Forest Service

Sierra and Sequoia National Forests; Revision of the Land Management Plan for the Sierra and Sequoia National Forests

AGENCY: Forest Service, Agriculture (USDA).

ACTION: Notice of opportunity to object to the revised Land Management Plan and the Regional Forester's list of species of conservation concern for the Sierra and Sequoia National Forests.

SUMMARY: The Forest Service, U.S. Department of Agriculture, is revising the Sierra and Sequoia National Forests' Land Management Plans (Forest Plans). The Forest Service has prepared a Final Environmental Impact Statement (FEIS) for the revised Forest Plans and draft Records of Decision (ROD). This notice is to inform the public that the Sierra and Sequoia National Forests are initiating a 60-day period where individuals or entities with specific concerns about the Sierra and Sequoia National Forests' revised Forest Plans and the associated FEIS may file objections for Forest Service review prior to the approval of the revised Forest Plans. This is also an opportunity to object to the Regional Forester's list of species of conservation concern for the Sierra and Sequoia National Forests.

DATES: The publication date of the legal notice in the Sierra and Sequoia National Forests' newspapers of record, Porterville Recorder and Fresno Bee initiates the 60-day objection filing period and is the exclusive means for calculating the time to file an objection (36 CFR 219.52(c)(5)). An electronic copy of the legal notice with the publication date will be posted at https://www.fs.usda.gov/project/?project=3375.

ADDRESSES: The Sierra and Sequoia National Forests' revised Forest Plans, FEIS, draft RODs, species of conservation concern list, and other supporting information will be available for review at: https://www.fs.usda.gov/project/?project=3375.

Objections must be submitted to the Objection Reviewing Officer by one of the following methods:

• Via regular mail to the following address: USDA Forest Service, Pacific Southwest Region, ATTN: Objection Coordinator, 1323 Club Dr., Vallejo, CA 94592.

• Objections may be submitted electronically at https://cara.fs2c.usda.gov/Public//CommentInput?Project=3375 with subject: Sierra and Sequoia National Forests Plan Revision Objection. Electronic submissions must be submitted in a format (Word, PDF, or Rich Text) that is readable and searchable with optical character recognition software.

• By Fax: (707) 562-9049. Faxes must be addressed to “Objection Coordinator.” The fax coversheet should include a subject line with “Sierra and Sequoia National Forests Plan Revision Objection” or “Sierra and Sequoia NFs Species of Conservation Concern” and specify the number of pages being submitted.

FOR FURTHER INFORMATION CONTACT: Bobbie Miller, Plan Revision Team Leader, Email: SM.FS.r5reviseplan@usda.gov or Phone: (530) 643-6226.

Individuals who use telecommunication devices for the deaf and hard of hearing (TDD) may call the Federal Relay Service (FRS) at 1(800) 877-8339, 24 hours a day, every day of the year, including holidays.

SUPPLEMENTARY INFORMATION: The decision to approve the revised Forest Plans and the Regional Forester's list of species of conservation concern for the Sierra and Sequoia National Forests will be subject to the objection process identified in 36 CFR part 219 Subpart B (219.50 to 219.62). Per 36 CFR 219.53 only individuals and entities who have submitted substantive formal comments related to a plan revision during the opportunities for public comment that are attributable to the objector may file an objection unless the objection concerns an issue that arose after the opportunities for formal comment.

How To File an Objection

Objections must be submitted to the Reviewing Officer at the address shown in the ADDRESSES section of this notice. An objection must include the following (36 CFR 219.54(c)):

(1) The objector's name and address along with a telephone number or email address if available. In cases where no identifiable name is attached to an objection, the Forest Service will attempt to verify the identity of the objector to confirm objection eligibility;

(2) Signature or other verification of authorship upon request (a scanned signature for electronic mail may be filed with the objection);

(3) Identification of the lead objector, when multiple names are listed on an objection. The Forest Service will communicate to all parties to an objection through the lead objector. Verification of the identity of the lead objector must also be provided if requested;

(4) The name of the plan, plan amendment, or plan revision being objected to, and the name and title of the responsible official;

(5) A statement of the issues and/or parts of the plan, plan amendment, or plan revision to which the objection applies;

(6) A concise statement explaining the objection and suggesting how the draft plan decision may be improved. If the objector believes that the plan, plan amendment, or plan revision is inconsistent with law, regulation, or policy, an explanation should be included;

(7) A statement that demonstrates the link between the objector's prior substantive formal comments and the content of the objection, unless the objection concerns an issue that arose after the opportunities for formal comment; and

(8) All documents referenced in the objection (a bibliography is not sufficient), except the following need not be provided:

a. All or any part of a Federal law or regulation,

b. Forest Service Directive System documents and land management plans or other published Forest Service documents,

c. Documents referenced by the Forest Service in the planning documentation related to the proposal subject to objection, and

d. Formal comments previously provided to the Forest Service by the objector during the proposed plan, plan amendment, or plan revision comment period.

It is the responsibility of the objector to ensure that the Reviewing Officer receives the objection in a timely manner. The regulations generally prohibit extending the length of the objection filing period (36 CFR 219.56(d)). However, when the time period expires on a Saturday, Sunday, or a Federal holiday, the time is extended to the end of the next Federal working day (11:59 p.m. for objections filed by electronic means such as email or facsimile machine) (36 CFR 219.56).

Responsible Official

The responsible official who will approve the Record of Decision (ROD) and the revised Forest Plan for the Sierra National Forest is Forest Supervisor Dean Gould, Sierra National Forest Headquarters, 1600 Tollhouse Road, Clovis, CA 3611, and Phone:(559) 297-0706. The responsible official who will approve the ROD and the revised Forest Plan for the Sequoia National Forest is Forest Supervisor Teresa Benson, Sequoia National Forest Supervisor's Office, 1839 S Newcomb, Porterville, CA 93257, and Phone: (559) 784-1500. The responsible official for the list of species of conservation concern is Regional Forester Jennifer Eberlien, USDA Forest Service Pacific Southwest Region, 1323 Club Drive, Vallejo, CA 94592.

The Regional Forester is the reviewing officer for the revised Forest Plan since the Forest Supervisor is the responsible official (36 CFR 219.56(e)). The decision to approve the species of conservation concern list will be subject to a separate objection process. The Chief of the Forest Service is the reviewing officer for species of conservation concern identification since the Regional Forester is the responsible official (36 CFR 219.56(e)(2)).

This authority may be delegated to an individual Deputy Chief or Associate Deputy Chief for the National Forest System, consistent with delegations of authority provided in the Forest Service Manual at sections 1235.4 and 1235.5.

Dated: June 8, 2022.
Deborah Hollen,
Acting Associate Deputy Chief, National Forest System.

[FR Doc. 2022-12757 Filed 6-13-22; 8:45 am]

BILLING CODE 3411-15-P